DEPARTMENT OF ENERGY

Federal Energy Regulatory Commission

[Docket No. CP98-233-001]

Transwestern Pipeline Company; Notice of Motion To Vacate

May 8, 2001.

On December 11, 2000, Transwestern Pipeline Company (Transwestern), P.O. Box 3330, Omaha, NE 68103, filed a Motion to Vacate the Abandonment Order issued by the Commission in Docket Nos. CP98-233-000, et al. On December 22, 1998, the Commission issued an Order Approving Abandonment and Authorizing Facilities Under Blanket Certificate (December 22 order). In such order, the Commission granted permission and approval for Transwestern to abandon by sale the Lipscomb Mocane and Leedy Lateral facilities to KN Interstate Gas Transmission Co. (KN Interstate), and for KN Interstate's prior notice request to acquire and operate such facilities. Transwestern states that the sale of the subject facilities was never completed under the Asset Purchase Agreement; and therefore, Transwestern is requesting the Commission vacate the December 22 Order, all as more fully set forth in the application which is on file with the Commission and open to public inspection. The filing may be viewed at http://www.ferc.fed.us/online/rims.htm (call 202-208-2222 for assistance).

Any questions regarding this application should be directed to Keith L. Petersen, Director, Certificates and Reporting for Transwestern, P.O. Box 3330, Omaha, Nebraska 68103, at (402) 398-7421.

Any person wishing to obtain legal status by becoming a party to the proceedings for this project should, on or before May 18, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Comments and protests may be filed electronically via the internet in lieu of paper. See, 18 CFR 385.2001(a)(1)(iii) and the instructions on the Commission's web site at http://www.ferc.fed.us/efi/doorbell.htm.

If the Commission decides to set the motion for a formal hearing before an Administrative Law Judge, the Commission will issue another notice describing that process. At the end of the Commission's review process, a final Commission order approving or denying a certificate will be issued.

Linwood A. Watson, Jr.,
Acting Secretary.

[FR Doc. 01-11972 Filed 5-11-01; 8:45 am]

BILLING CODE 6717-01-M